DEPARTMENT OF JUSTICE

Lodging of Consent Decree Under Certain Air Act

In accordance with Departmental policy, 38 CFR 50.7, notice is hereby given that a proposed consent decree in United States v. Appleton Papers, Inc., C.A. No. 00-216-J, was lodged on August 16, 2000, with the United States District Court for the Western District of Pennsylvania. The consent decree resolves the United States' claims against Defendant Appleton Papers, Inc. for violations of Section 111 of the Clean Air Act, 42 U.S.C. § 7411, and the Pulp Mill New Source Performance Standards (“NSPS”), 40 CFR part 60, subpart BB, with respect to the operation of Appleton's brown stock washer system. Further, the consent decree resolves the United States' claim that Appleton failed to comply with a recovery boiler fuel use limitation contained in an operating permit, issued pursuant to the Commonwealth of Pennsylvania's State Implementation Plan. The violations occurred at Appleton's facility, located in Roaring Spring, Pennsylvania.

In addition, the consent decree resolves the claims alleged in the Commonwealth of Pennsylvania's complaint-in-intervention, which is based upon the same violations referenced above.

Under the consent decree, Appleton has agreed to pay a civil penalty in the amount of $490,000. Further, Appleton will implement agreed-upon injunctive relief, requiring the construction of a Pulp Project that will bring Appleton into compliance with the Clean Air Act and the applicable NSPS regulations not later than January 31, 2002. Moreover, completion and implementation of the Pulp Project will result in Appleton's early compliance with the National Emission Standards for Hazardous Air Pollutants from the Pulp and Paper Industry, 40 CFR part 63, subpart S, which become effective in 2006.

The Department of Justice will receive, for a period of thirty (30) days from the date of this publication, comments relating to the proposed consent decree. Comments should be addressed to the Assistant Attorney General for the Environment and Natural Resources Division, Department of Justice, Washington, D.C. 20530, and should refer to United States v. Appleton Papers, Inc., DOJ Reference No. 90-5-2-1-06607.

The proposed consent decree may be examined at the Office of the United States Attorney, 633 Post Office and Courthouse Building, Pittsburgh, Pennsylvania 15219; and the Region III Office of the Environmental Protection Agency, 1650 Arch Street, Philadelphia, Pennsylvania 19103. A copy of the proposed consent decree may be obtained by mail from the Department of Justice Consent Decree Library, P.O. Box 7611, Washington, D.C. 20044. In requesting a copy, please refer to the referenced case and enclose a check in the amount of $12.75 (.25 cents per page production costs), payable to the Consent Decree Library.

Walker B. Smith,
Deputy Chief, Environmental Enforcement Section, Environment and Natural Resources Division.

[FR Doc. 00-22130 Filed 8-29-00; 8:45 am]

BILLING CODE 4410-15-M